Title 3—

The President

Proclamation 10884 of January 17, 2025

Martin Luther King, Jr., Federal Holiday, 2025

By the President of the United States of America

A Proclamation

Today, we honor the life and legacy of the Reverend Dr. Martin Luther King, Jr., an inspirational leader whose moral vision and courage helped bend the arc of history toward justice. And we recommit to building the future he envisioned.

Dr. King's ministry, movement, and epic struggle for civil rights and voting rights sought to redeem the soul of our Nation. That soul is embodied in the sacred proposition that we are all created equal in the image of God. Dr. King invoked this proposition when, on that day in 1963, he told the Nation about a dream—a dream in which every person in this Nation is guaranteed the unalienable rights of life, liberty and the pursuit of happiness. And he helped our country realize this proposition with the passage of the Civil Rights Act of 1964 and the Voting Rights Act of 1965.

But the battle for the soul of our Nation is perennial—a constant struggle between hope and fear, kindness and cruelty, and justice and injustice. It is a battle that has been waged on battlefields and bridges, and within courthouses and city councils. There is nothing guaranteed about our democracy. Every generation is required to keep it, defend it, and protect it. There is still so much to do to build the “Beloved Community” Dr. King envisioned—from securing economic justice and protecting our civil rights and liberties to ensuring everyone has the right to vote and have that vote counted. But I know it is possible because the power to redeem the soul of America has always been in the hands of “We the People.” Together, we can do our best to see each other not as enemies but as neighbors; to believe in and practice honesty, decency, and respect; and to fight for freedom, justice and democracy.

Today, we remember Dr. King as a towering spiritual leader and a lifelong warrior for equality and justice. As we celebrate his legacy, I am reminded of this line from a gospel song: “We've come too far from where we started. Nobody told me that the road would be easy. I don't believe He brought me this far to leave me.” Dr. King's story is a reminder that progress is never easy—but it is always possible—and that good things get done on our march toward a more perfect Union. We have never lived up to the ideals of our Nation, but we have never walked away from them either. May we be inspired by Dr. King's path and motivated by his legacy, working together to build a world founded on freedom, equality, and justice for all.

NOW, THEREFORE, I, JOSEPH R. BIDEN JR., President of the United States of America, by virtue of the authority vested in me by the Constitution and the laws of the United States, do hereby proclaim Monday, January 20, 2025, as the Martin Luther King, Jr., Federal Holiday. I encourage all Americans to observe this day with appropriate civic, community, and service projects in honor of Dr. King and to visit MLKDay.gov to find Martin Luther King, Jr., Day of Service projects across our country.

IN WITNESS WHEREOF, I have hereunto set my hand this seventeenth day of January, in the year of our Lord two thousand twenty-five, and of the Independence of the United States of America the two hundred and forty-ninth.

[FR Doc. 2025-01600

Filed 1-21-25; 8:45 am]

Billing code 3395-F4-P